OVERSEAS PRIVATE INVESTMENT CORPORATION

[OMB-3420-0004]

Submission for OMB Review

AGENCY: Overseas Private Investment Corporation (OPIC).

ACTION: Request for approval.

SUMMARY: Under the provisions of the Paperwork Reduction Act (44 U.S.C. Chapter 35), agencies are required to publish a Notice in the Federal Register notifying the public that the agency has prepared an information collection for OMB review and approval.

DATES: This 60 day notice is to inform the public, that this collection is being submitted to OMB for approval.

ADDRESSES: Copies of the subject form may be obtained from the Agency submitting officer.

FOR FURTHER INFORMATION CONTACT: OPIC Agency Submitting Officer: Essie Bryant, Record Manager, Overseas Private Investment Corporation, 1100 New York Avenue NW., Washington, DC 20527; (202) 336-8563.

Summary Form Under Review

Type of Request: Form Renewal.

Title: Project Information Report.

Form Number: OPIC-71.

Frequency of Use: No more than once per contract.

Type of Respondents: Business or other institution (except farms); individuals.

Standard Industrial Classification Codes: All.

Description of Affected Public: U.S. companies or citizens investing overseas.

Reporting Hours: 15 hours per project.

Number of Responses: 30 per year.

Federal Cost: $3,024.60.

Authority for Information Collection: Title 22 U.S.C. 2191(k)(2) and 2199(h) of the Foreign Assistance Act of 1961, as amended.

Abstract (Needs and Uses): The Project Information Report is necessary to elicit information on the developmental, environmental, and U.S. economic effects of OPIC assisted projects. The information will be used by OPIC's staff and management solely as a basis for monitoring these projects and reporting the results in aggregate form, as required by Congress.

Dated: May 30, 2012.
Nichole Cadiente,
Administrative Counsel, Department of Legal Affairs.

[FR Doc. 2012-13579 Filed 6-5-12; 8:45 am]

BILLING CODE M